DEPARTMENT OF HOMELAND SECURITY

Coast Guard

[Docket No. USCG-2013-0522]

Tank Vessel Oil Transfers

AGENCY: Coast Guard, DHS.

ACTION: Notice; reopening of comment period

SUMMARY: The Coast Guard issued a notice in the Federal Register of October 23, 2013, concerning new measures to reduce the risks of oil spills in oil transfer operations from or to a tank vessel. In response to public comments requesting an extension of the original comment period ending on November 22, 2013, the Coast Guard is reopening the comment period for an additional 30 days.

DATES: Comments must be received on or before December 30, 2013.

ADDRESSES: Submit comments using one of the listed methods, and see SUPPLEMENTARY INFORMATION for more information on public comments.

• Online— http://www.regulations.gov following Web site instructions.

• Fax—202-493-2251.

• Mail—Docket Management Facility (M-30), U.S. Department of Transportation, West Building Ground Floor, Room W12-140, 1200 New Jersey Avenue SE., Washington, DC 20590-0001.

• Hand deliver—mail address, 9 a.m. to 5 p.m., Monday through Friday, except Federal holidays (telephone 202-366-9329).

FOR FURTHER INFORMATION CONTACT: For information about this document call or email Ken Smith, Coast Guard; telephone 202-372-1413, email Ken.A.Smith@uscg.mil. For information about viewing or submitting material to the docket, call Barbara Hairston, Program Manager, Docket Operations, telephone 202-366-9826.

SUPPLEMENTARY INFORMATION: This document reopens the comment period on the Coast Guard's October 23, 2013, notice (78 FR 63235) by an additional 30 days, in response to several public comments that requested an extension of the original comment period, which ended November 22, 2013. This notice is issued under authority of 5 U.S.C. 552(a).

Dated: November 21, 2013.
F.J. Sturm,
Acting Director of Commercial Regulations and Standards, U.S. Coast Guard.

[FR Doc. 2013-28584 Filed 11-27-13; 8:45 am]

BILLING CODE 9110-04-P